DEPARTMENT OF ENERGY

Federal Energy Regulatory Commission

Notice of Request to Use Alternative Procedures in Preparing a License Application

October 12, 2001.

Take notice that the following request to use alternative procedures to prepare a license application has been filed with the Commission.

a. Type of Filing: Request to use alternative procedures to prepare a new license application.

b. Project No.: 632-008

c. Date filed: September 26, 2001.

d. Applicant: City of Monroe.

e. Name of Project: Lower Monroe Hydroelectric Project.

f. Location: On Monroe Creek near the City of Monroe in Sevier County, Utah. The project occupies 6.69 acres of federal lands within Fishlake National Forest.

g. Filed Pursuant to: Federal Power Act, 16 U.S.C. 791(a)-825(r).

h. Applicant Contact: Jones & DeMille Engineering, Darin Robinson, Engineer, 1440 South Pipe Lane, Richfield, UT 84701 (435) 896-8266.

i. FERC Contact: Dianne E. Rodman at (202) 219-2830; e-mail Dianne.Rodman@ferc.fed.us.

j. Copies of this filing are on file with the Commission and are available for public inspection. This filing may also be viewed on the web at http://www.ferc.gov using the “RIMS” link, select “Docket#” and follow the instructions (call 202-208-2222 for assistance).

k. Deadline for Comments: 30 days from the date of this notice.

All documents (original and eight copies) should be filed with: David P. Boergers, Secretary, Federal Energy Regulatory Commission, 888 First Street, NE., Washington, DC 20426.

Comments may be filed electronically via the Internet in lieu of paper. See 18 CFR 385.2001(a)(1)(iii) and the instructions on the Commission's web site (http://www.ferc.gov) under the “e-Filing” link.

l. The existing project consists of: (1) a 3-foot-high and 13-foot-long concrete overflow-type diversion dam topped with 3-foot-high flashboards; (2) a concrete intake structure with a trash rack and a 21-inch diameter cast iron pipeline 100 feet long; (3) a 4,405-foot-long welded steel penstock of which 24 feet is 20-inch diameter pipe and 4,381 feet is 16-inch diameter pipe; (4) a powerhouse containing a Pelton wheel connected to a generator rated at 100-kilowatts (kW); (5) a 2.4-kilovolt (kV), 3-phase generator lead and a transmission line approximately 3,570 feet long; and (6) appurtenant facilities. There are no proposed changes to the project facilities.

m. The City of Monroe (Monroe City) has demonstrated that it has made an effort to contact all federal and state resources agencies, non-governmental organizations (NGO), and others affected by the project. Monroe City has also demonstrated that a consensus exists that the use of alternative procedures is appropriate in this case. Monroe City has submitted a communications protocol that is supported by the stakeholders.

The purpose of this notice is to invite any additional comments on Monroe City's request to use the alternative procedures, pursuant to Section 4.34(i) of the Commission's regulations. Additional notices seeking comments on the specific project proposal, interventions and protests, and recommended terms and conditions will be issued at a later date. Monroe City will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Monroe City has met with federal and state resources agencies, NGOs, elected officials, flood control and downstream interests, environmental groups, business and economic development organizations, the boating industry, and members of the public regarding the Lower Monroe Project. Monroe City intends to file 6-month progress reports during the alternative procedures process that leads to the filing of a license application by February 14, 2004.

David P. Boergers,
Secretary.

[FR Doc. 01-26250 Filed 10-17-01; 8:45 am]

BILLING CODE 6717-01-P